DEPARTMENT OF AGRICULTURE

Forest Service

Eastern Washington Cascades Provincial Advisory Committee and the Yakima Provincial Advisory Committee

AGENCY: Forest Service, USDA.

ACTION: Notice of Meeting.

SUMMARY: The Eastern Washington Cascades Provincial Committee and the Yakima Provincial Advisory Committee will meet on Wednesday, March 22, 2006 at the Wenatchee Valley Medical Center Sleep Center Conference Room, 1000 N. Miller Street, Wenatchee, Washington. The meeting will begin at 9 a.m. and continue until 3 p.m. During this meeting we will become acquainted with the collaborative learning process. Members will recommend how collaborative learning might be used to develop a land allocation option for public consideration during the preparation of a revised forest plan for the Okanogan and Wenatchee National Forests. All Eastern Washington Cascades and Yakima Province Advisory Committee meetings are open to the public.

FOR FURTHER INFORMATION CONTACT: Direct questions regarding this meeting to Paul Hart, Designated Federal Official, USDA, Wenatchee National Forest, 215 Melody Lane, Wenatchee, Washington 98801, 509-664-9200.

Dated: March 6, 2006.
Paul Hart,
Designated Federal Official, Okanogan and Wenatchee National Forests.

[FR Doc. 06-2307 Filed 3-9-06; 8:45 am]

BILLING CODE 3410-11-M